DEPARTMENT OF HEALTH AND HUMAN SERVICES

Centers for Medicare & Medicaid Services

[Document Identifier: CMS-8003, CMS-10060, CMS-287, CMS-R-245, CMS-21/CMS-21B, CMS-64, and CMS-R-209]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Home and Community-Based Waiver Requests and Supporting Regulations in 42 CFR 440.180 and 441.300-.310; Use: Under a Secretarial waiver, States may offer a wide array of home and community-based services to individuals who would otherwise require institutionalization. States requesting a waiver must provide certain assurances, documentation and cost & utilization estimates which are reviewed, approved and maintained for the purpose of identifying/verifying States' compliance with such statutory and regulatory requirements; Form Number: CMS-8003 (OMB#: 0938-0449); Frequency: Other: When a State requests a waiver or amendment to a waiver; Affected Public: State, Local or Tribal Government; Number of Respondents: 50; Total Annual Responses: 132; Total Annual Hours: 7,930.

2. Type of Information Collection Request: Extension of a currently approved collection; Title of Information Collection: Quality Assessment and Performance Improvement (QAPI) Project Completion Report and Supporting Regulations in 42 CFR 422.152; Use: This project completion report derives from the Quality Improvement System for Managed Care (QISMC) Standards and Guidelines as required by the Balanced Budget Act of 1997 (as amended by Balanced Budget Refinement Act of 1999) and the related regulations, 42 CFR 422.152. These regulations established QISMC as a requirement for Medicare+Choice (M+C) Organizations by requiring improved health outcomes for enrolled beneficiaries. The provisions of QISMC specify that M+C organizations will implement and evaluate quality improvement projects. The form submitted herein will permit M+C organizations to report their completed projects to CMS in a standardized fashion for evaluation by CMS of the M+C Organization's compliance with regulatory provisions. This form will improve consistency and reliability in the CMS evaluation process, as well as provide a standardized structure for public use and review; Form Number: CMS-10060 (OMB#: 0938-0873); Frequency: Annually; Affected Public: Business or other for-profit and Not-for-profit institutions; Number of Respondents: 155; Total Annual Responses: 155; Total Annual Hours: 620.

3. Type of Information Request: Revision of a currently approved collection; Title of Information Collection: Home Office Cost Statement and Supporting Regulations in 42 CFR 413.17 and 413.20; Use: Home Office Cost Statement, is filed annually by Chain Home Offices to report the information necessary for the determination of Medicare reimbursement to components of chain organizations. Many providers of service participating in Medicare are reimbursed, at least partially, on the basis of the lesser of reasonable cost or customary services for services furnished to eligible beneficiaries. When providers obtain services, supplies or facilities from an organization related to the provider by common ownership or control, 42 CFR 413.17 requires that the provider include in its costs, the costs incurred by the related organization in furnishing such services, supplies or facilities. Revisions to this form include the addition of columns for more detailed reporting and the elimination of other columns that were deemed unnecessary; Form Number: CMB-287 (OMB# 0938-0202); Frequency: Annually; Affected Public: Not-for-profit institutions and Business or other for-profit; Number of Respondents: 1,231; Total Annual Responses: 1,231; Total Annual Hours: 573,646.

4. Type of Information Request: Extension of a currently approved collection; Title of Information Collection: Medicare and Medicaid Programs; OASIS Collection Requirements as Part of the COPs for HHAs and Supporting Regulations in 42 CFR, Sections 484.55, 484.205, 484.245, and 484.250; Use: This collection requires HHAs to use a standard core assessment data set, the OASIS, to collect information and to evaluate adult non-maternity patients. In addition, data from the OASIS will be used for purposes of case-mix adjusting patients under home health PPS, and will facilitate the production of necessary case-mix information at relevant time intervals in the patient's home health stay. Modifications were previously made to the OASIS forms to allow for the preservation of masking of personally identifiable information for the non-Medicare/non-Medicaid individuals; Form Number: CMS-R-245 (OMB# 0938-0760); Frequency: Other: Upon patient assessment; Affected Public: Business or other for-profit, Not-for-profit institutions, Federal Government, and State, Local or Tribal Gov.; Number of Respondents: 7,582; Total Annual Responses: 10,156,569; Total Annual Hours: 8,556,995.

5. Type of Information Request: Extension of a currently approved collection; Title of Information Collection: Quarterly Children's Health Insurance Program (CHIP) Statement of Expenditures for Title XXI; Use: States use forms CMS-21 and CMS-21B to report budget, expenditure, and related statistical information required for implementation of the Children's Health Insurance Program. The information provided by these forms is used by CMS to prepare the grant awards to States for the Medicaid and CHIP programs, to ensure that the appropriate level of Federal payments for State expenditures under the Medicaid program and CHIP are made in accordance with the CHIP related Balanced Budget Act legislation provisions, and to track, monitor, and evaluate the numbers of related children being served by the Medicaid and CHIP programs; Form Number: CMS-21 and CMS-21B (OMB# 0938-0731); Frequency: Quarterly; Affected Public: State, Local or Tribal Gov.; Number of Respondents: 56; Total Annual Responses: 448; Total Annual Hours: 7,840.

6. Type of Information Request: Revision of a currently approved collection; Title of Information Collection: Quarterly Medicaid Statement of Expenditures for the Medical Assistance Program; Use: The State Medicaid agencies use the form CMS-64 for the Medical Assistance Program to report their actual program benefit costs and administrative expenses to CMS. CMS uses this information to compute the Federal financial participation for the State's Medicaid Program costs. The structure of the current from CMS-64 has evolved from the previous forms used for reporting and has been revised. Classification, identification, and referencing used in the CMS-64 forms has been in place for several years, is readily understood and accepted by the report users, and is supported by strong sentiments in both CMS and the States to maintain the existing format. Therefore, our modifications have been made to maintain the current reporting format by incorporating all changes into the existing report structure; Form Number: CMS-64 (OMB# 0938-0067); Frequency: Quarterly; Affected Public: State, Local or Tribal Gov.; Number of Respondents: 56; Total Annual Responses: 224; Total Annual Hours: 16,464.

7. Type of Information Collection Request: Extension of a currently approved collection; Title of Information Collection: Medicare and Medicaid Programs; Use and Reporting OASIS Data as Part of the CoPs for HHAs and Supporting Regulations in 42 CFR 484.11 and 484.20; Form No.: CMS-R-209 (OMB# 0938-0761); Use: HHAs are required to report data from the OASIS as a condition of participation. Specifically, the above named regulation sections provide guidelines for HHAs for the electronic transmission of the OASIS data as well as responsibilities of the State agency or OASIS contractor in collecting and transmitting this information to CMS. These requirements are necessary to achieve broad-based, measurable improvement, in the quality of care furnished through Federal programs, and to establish a prospective payment system for HHAs; Frequency: Monthly; Affected Public: Business or other-for-profit, Federal Government, State, Local or Tribal Government, Not-for-profit institutions; Number of Respondents: 7,582; Total Annual Responses: 93,621; Total Annual Hours: 921,271.

To obtain copies of the supporting statement and any related forms for the proposed paperwork collections referenced above, access CMS' Web site address at http://www.cms.hhs.gov/regulations/pra/, or E-mail your request, including your address, phone number, OMB number, and CMS document identifier, to Paperwork@cms.hhs.gov, or call the Reports Clearance Office on (410) 786-1326.

Written comments and recommendations for the proposed information collections must be mailed within 60 days of this notice directly to the CMS Paperwork Reduction Act Reports Clearance Officer designated at the address below: CMS, Office of Strategic Operations and Regulatory Affairs, Division of Regulations Development, Attention: Melissa Musotto, Room C5-14-03, 7500 Security Boulevard, Baltimore, Maryland 21244-1850.

Dated: January 13, 2005.
Dawn Willinghan,
Acting, CMS Paperwork Reduction Act Reports Clearance Officer, Office of Strategic Operations and Regulatory Affairs, Regulations Development Group.

[FR Doc. 05-1320 Filed 1-24-05; 8:45 am]

BILLING CODE 4120-03-M